DEPARTMENT OF EDUCATION

[Docket No. ED-2022-SCC-0008]

Agency Information Collection Activities; Submission to the Office of Management and Budget for Review and Approval; Comment Request; National Resource Centers' Survey on Diverse Perspectives

AGENCY: Office of Postsecondary Education (OPE), Department of Education (ED).

ACTION: Notice.

SUMMARY: In accordance with the Paperwork Reduction Act of 1995, ED is proposing a new collection.

DATES: Interested persons are invited to submit comments on or before June 2, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Sara Starke, (202) 453-7681.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Resource Centers' Survey on Diverse Perspectives.

OMB Control Number: 1840-NEW.

Type of Review: New collection.

Respondents/Affected Public: Private Sector.

Total Estimated Number of Annual Responses: 100.

Total Estimated Number of Annual Burden Hours: 50.

Abstract: The National Resource Centers (NRC) program is authorized under Title VI, part A, section 602 of the Higher Education Act of 1965, as amended (HEA). The program provides grants to institutions of higher education (IHEs) or consortia of IHEs to establish, strengthen, and operate comprehensive and undergraduate centers that will be national resources for the teaching of modern foreign languages; instruction in fields needed to provide full understanding of world regions where modern foreign languages are used; research and training in international studies and international and foreign language aspects of professional and other fields of study; and instruction and research on issues in world affairs. NRC grants also support outreach activities to the K-16 education sectors and the business, media, and general public.

Dated: April 28, 2022.
Kun Mullan,
PRA Coordinator, Strategic Collections and Clearance, Governance and Strategy Division, Office of Chief Data Officer, Office of Planning, Evaluation and Policy Development.

[FR Doc. 2022-09476 Filed 5-2-22; 8:45 am]

BILLING CODE 4000-01-P